DEPARTMENT OF ENERGY

Federal Energy Regulatory Commission

Notice of Application for Transfer of License and Soliciting Comments, Motions To Intervene, and Protests

October 26, 2001.

Take notice that the following hydroelectric application has been filed with the Commission and is available for public inspection:

a. Application Type: Transfer of License.

b. Project No: 9988-012.

c. Date Filed: July 9, 2001, supplemented July 30, 2001, and October 1, 2001.

d. Applicants: Spartan Mills, Mr. Peter L. Tourtellot, Receiver, and the Augusta Canal Authority.

e. Name of Project: John P. King Mill.

f. Location: The project is located on the Augusta Canal and the Savannah River in Richmond County, Georgia. The project does not occupy Federal or Tribal land.

g. Filed Pursuant to: Federal Power Act, 16 U.S.C. 791(a)-825(r).

h. Applicant Contact: Ms. Beth E. Harris, CHI Energy, Inc., P.O. Box 8597, Greenville, SC 29604, (864) 281-9630 ext. 105.

i. FERC Contact: Mr. James Hunter, (202) 219-2839.

j. Deadline for filing comments and or motions: December 5, 2001.

All documents (original and eight copies) should be filed with: David P. Boergers, Secretary, Federal Energy Regulatory Commission, 888 First Street, NE., Washington DC 20426. Comments, protests and interventions may be filed electronically via the Internet in lieu of paper. See, 18 CFR 385.2001(a)(1)(iii) and the instructions on the Commission's Web site under the “e-Filing” link.

Please include the project number (P-9988-012) on any comments or motions filed.

k. Description of Proposal: The applicants propose a transfer of the license for Project No. 9988 from Spartan International, Inc., also known as Spartan Mills (Spartan), the current licensee, by and through Mr. Peter L. Tourtellot, Receiver, to the Augusta Canal Authority. The transfer is being sought in connection with a judicial foreclosure proceeding initiated by General Electric Capital Corporation against Spartan. On October 1, 2001, the Governor of Georgia signed legislation giving the Augusta Canal Authority the authority to operate hydropower projects.

l. Locations of the Application: A copy of the application is available for inspection and reproduction at the Commission's Public Reference Room, located at 888 First Street, NE., Room 2A, Washington, DC 20426, or by calling (202) 208-1371. This filing may also be viewed on the web at http://www.ferc.gov using the “RIMS” link, select “Docket#” and follow the instructions (call 202-208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-27533 Filed 11-1-01; 8:45 am]

BILLING CODE 6717-01-P